DEPARTMENT OF COMMERCE

[I.D. 090100C]

Submission for OMB Review; Comment Request.

The Department of Commerce has submitted to the Office of Management and Budget (OMB) for clearance the following proposal for collection of information under the provisions of the Paperwork Reduction Act (44 U.S.C. Chapter 35).

Agency: National Oceanic and Atmospheric Administration (NOAA).

Title: American Fisheries Act: Recordkeeping and Reporting Requirements.

Form Number(s): None.

OMB Approval Number: 0648-0401.

Type of Request: Regular submission.

Burden Hours: 888.

Number of Respondents: 26.

Average Hours Per Response: 5 minutes to submit a copy of a cooperative contract to NMFS, 35 minutes to submit an electronic shoreside processor logbook, 5 minutes to submit a cooperative pollock catch report, 8 hours to submit a cooperative preliminary reports, and 8 hours to submit a cooperative final report.

Needs and Uses: NOAA has issued an emergency interim rule to implement portions of the American Fisheries Act. Included are requirements that participating shoreside processors in Alaska must submit electronic logbooks, and that certain fishery cooperatives must submit copies of their contracts, catch reports, and preliminary and final annual reports. This information is needed for the management of the fishery program. These requirements were originally given emergency clearance under the Paperwork Reduction Act, and NOAA is now requesting approval under standard procedures.

Affected Public: Business and other for-profit organizations.

Frequency: On occasion for submission of contracts and catch reports, daily for electronic shoreside processor logbooks, and annually for preliminary and annual reports.

Respondent's Obligation: Mandatory.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 31, 2000.
Madeleine Clayton,
Departmental Forms Clearance Officer, Office of the Chief Information Officer.

FR Doc. 00-23133 Filed 9-7-00; 8:45 am]

BILLING CODE 3510-22-S